FEDERAL RESERVE SYSTEM

Agency Information Collection Activities: Announcement of Board Approval Under Delegated Authority and Submission to OMB

AGENCY: Board of Governors of the Federal Reserve System

SUMMARY: Background

Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instruments are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer--Michelle Shore--Division of Research and Statistics, Board of Governors of the Federal Reserve System, Washington, DC 20551 (202-452-3829).

OMB Desk Officer--Alexander T. Hunt--Office of Information and Regulatory Affairs, Office of Management and Budget, New Executive Office Building, Room 10235, Washington, DC 20503.

Final approval under OMB delegated authority of the extension for three years, without revision, of the following reports:

1. Report title: Stock Redemption Notification

Agency form number: FR 4008

OMB control number: 7100-0131

Frequency: On occasion

Reporters: Banks holding companies (BHCs)

Annual reporting hours: 233 hours

Estimated average hours per response: 15.5 hours

Number of respondents: 15

General description of report: This information collection is mandatory (12 U.S.C. § 1844(c)) and is generally not given confidential treatment.

Abstract: The Bank Holding Company Act (BHC Act) and Regulation Y generally require a BHC to seek prior Federal Reserve approval before purchasing or redeeming its equity securities. Given that a BHC is exempt from this requirement if it meets certain financial, managerial, and supervisory standards, only a small portion of proposed stock redemptions actually require the prior approval of the Federal Reserve. There is no formal reporting form. The Federal Reserve uses the information provided in the redemption notice to fulfill its statutory obligation to supervise BHCs.

2. Report title: Notice Claiming Status as an Exempt Transfer Agent

Agency form number: FR 4013

OMB control number: 7100-0137

Frequency: On occasion

Reporters: Banks, bank holding companies (BHCs), and certain trust companies

Annual reporting hours: 12

Estimated average hours per response: 2

Number of respondents: 6

General description of report: This information collection is required (15 U.S.C. §78q-1(c)) and the Federal Reserve is authorized to collect this data (15 U.S.C. §78c(a)(34)(B)(ii)). The data collected are not given confidential treatment.

Abstract: Banks, BHCs, and trust companies subject to the Federal Reserve's supervision that are low-volume transfer agents voluntarily file the notice on occasion with the Federal Reserve. Transfer agents are institutions that provide securities transfer, registration, monitoring, and other specified services on behalf of securities issuers. The purpose of the notice, which is effective until the agent withdraws it, is to claim exemption from certain rules and regulations of the Securities and Exchange Commission (SEC). The Federal Reserve uses the notices for supervisory purposes because the SEC has assigned to the Federal Reserve responsibility for collecting the notices and verifying their accuracy through examinations of the respondents. There is no formal reporting form, and each notice is filed as a letter.

3. Report title: Investment in Bank Premises Notification

Agency form number: FR 4014

OMB control number: 7100-0139

Frequency: On occasion

Reporters: State member banks

Annual reporting hours: 18

Estimated average hours per response: 30 minutes

Number of respondents: 36

General description of report: This information collection is mandatory (12 U.S.C. 371d(a)) and is not given confidential treatment.

Abstract: The Federal Reserve System requires a state member bank to seek prior Federal Reserve approval before making an investment in bank premises that exceeds certain thresholds. There is no formal reporting form, and each required request for prior approval must be filed as a notification with the appropriate Reserve Bank of the state member bank. The Federal Reserve uses the information provided in the notice to fulfill its statutory obligation to supervise state member banks.

4. Report title: Information Collections Related to the Gramm-Leach-Bliley (GLB) Act

Agency form number: FR 4010, FR 4011, FR 4012, FR 4017, FR 4019, and FR 4023

OMB control number: 7100-0292

Frequency: On occasion

Reporters: BHCs, foreign banking organizations (FBOs), and state member banks

Annual reporting hours: 2,421 hours

Estimated average hours per response: FR 4010: BHC 3 hours, FBOs 3.5 hours; FR 4011: 10 hours; FR 4012: BHCs decertified as financial holding companies(FHCs) 1 hour, FHCs back into compliance 10 hours; FR 4017: 4 hours; FR 4019: 1 hour; FR 4023: 50 hours

Number of respondents: FR 4010: BHC 49, FBOs 8; FR 4011: 4; FR 4012: BHCs decertified as financial holding companies (FHCs) 11, FHCs back into compliance 28; FR 4017: 2; FR 4019: Regulatory relief requests 5, Portfolio company notification 2; FR 4023: 38

General description of report: The FR 4010 is required to obtain a benefit and is authorized under Section 4(l)(1)(C) of the BHC Act, 12 U.S.C. § 1843(l)(l)(C); section 8(a) of the International Banking Act, 12 U.S.C. § 3106(a); and sections 225.82 and 225.91 of Regulation Y, 12 C.F.R. 225.82 and 225.91.

The FR 4011 is voluntary and is authorized under Sections 4(j) and 4(k) of the BHC Act, 12 U.S.C. § 1843(j) through (k); and sections 225.88, and 225.89, of Regulation Y, 12 C.F.R. 225.88, and 225.89.

The FR 4012 is mandatory and is authorized under Section 4(l)(1) and 4(m) of the BHC Act, 12 U.S.C. § 1843(l)(1) and (m); section 8(a) of the International Banking Act, 12 U.S.C. § 3106(a); and sections 225.83 and 225.93 of Regulation Y, 12 C.F.R. 225.83 and 225.93.

The FR 4017 is required to obtain a benefit and is authorized under Section 9 of the Federal Reserve Act, 12 U.S.C. § 335; and section 208.76 of Regulation H, 12 C.F.R. 208.76.

The FR 4019 is required to obtain a benefit and is authorized under Section 4(k)(7) of the BHC Act, 12 U.S.C. § 1843(k)(7); and sections 225.171(e)(3), 225.172(b)(4), and 225.173(c)(2) of Regulation Y, 12 C.F.R. 225.171(e)(3), 225.172(b)(4), and 225.173(c)(2).

The FR 4023 is mandatory and is authorized under Section 4(k)(7) of the BHC Act, 12 U.S.C. § 1843(k)(7); and sections 225.171(e)(4) and 225.175 of Regulation Y, 12 C.F.R. 225.171(e)(4) and 225.175.

For the FR 4010, FR 4011, FR 4017, and FR 4019, a company may request confidential treatment of the information contained in these information collections pursuant to section (b)(4) and (b)(6) of the Freedom of Information Act (FOIA)(5 U.S.C. 552 (b)(4) and (b)(6)). Since the Federal Reserve does not collect the FR 4023, no issue of confidentiality under the FOIA arises. FOIA will only be implicated if the Board's examiners retained a copy of the records in their examination or supervision of the institution, and would likely be exempt from disclosure pursuant to FOIA (5 U.S.C. '552(b)(4), (b)(6), and (b)(8)).

Abstract: Each BHC or FBO seeking FHC status must file the FR 4010 declaration, which includes information needed to verify eligibility for FHC status. By filing the FR 4011, a requestor may ask the Board to determine that an activity is financial in nature, to issue an advisory opinion that an activity is within the scope of an activity previously determined to be financial in nature, or to approve engagement in an activity complementary to a financial activity. Any FHC ceasing to meet capital or managerial prerequisites for FHC status must notify the Board by filing the FR 4012 of the deficiency, and often must submit plans to the Board to cure the deficiency. Any state member bank seeking to establish a financial subsidiary must seek the Board's prior approval by submitting the FR 4017. Any FHC seeking to extend the 10-year holding period for a merchant banking investment must submit the FR 4019 to apply for the Board's prior approval, and a FHC also must notify the Board if it routinely manages or operates a portfolio company for more than nine months. All FHCs engaging in merchant banking activities must keep records of those activities, and make them available to examiners as specified in the FR 4023 requirements.

There are no formal reporting forms for these collections of information, which are event generated, though in each case the type of information required to be filed is described in the Board's regulations. These collections of information are required pursuant to amendments made by the GLB Act to the Bank Holding Company Act or the Federal Reserve Act, or Board regulations issued to carry out the GLB Act.

Current Actions: On April 2, 2007, the Federal Reserve published a notice in the Federal Register (72 FR 15692) requesting public comment for 60 days on the extension, without revision, of the: FR 4008, FR 4013, FR 4014 and information collections related to the GLB Act: FR 4010, FR 4011, FR 4017, FR 4019, and FR 4023. The comment period for this notice expired on June 1, 2007. No comments were received.

Board of Governors of the Federal Reserve System, June 12, 2007.
Robert deV. Frierson,
Deputy Secretary of the Board.

[FR Doc. E7-11549 Filed 6-14-07; 8:45 am]

BILLING CODE 6210-01-S